DEPARTMENT OF AGRICULTURE

Forest Service

Proposed New Recreation Fees: George Washington and Jefferson National Forests; Correction

AGENCY: Forest Service, USDA.

ACTION: Notice of proposed new recreation fees; Correction.

SUMMARY: The Forest Service published a document in the Federal Register on September 30, 2019, requesting for comments on proposed new recreation fees for three recreation sites on the George Washington and Jefferson National Forests. The document contained incorrect information on the type of fee and features of recreation sites required in order to charge that fee type. The Forest Service is reopening the comment period. The previous comment period ended on October 15, 2019. In addition to comments received under this notice, comments previously submitted in response to the notice published during the comment period announced September 30, 2019, will be considered.

DATES: Comments on the fee changes will be accepted through December 10, 2019. The fees will become available pending a recommendation from the Southern Region Recreation Resource Advisory Committee. If approved by the Regional Forester, implementation of new fees will occur no sooner than 180 days from the date of publication in the Federal Register.

ADDRESSES: Written comments concerning this notice should be addressed to the Supervisor's Office at: Joby P. Timm, Forest Supervisor, George Washington and Jefferson National Forests, 5162 Valleypointe Parkway, Roanoke, VA 24019, Attention Recreation Fee Coordinator.

FOR FURTHER INFORMATION CONTACT: Ginny Williams, Recreation Fee Coordinator, 540-265-5166. Information about proposed fee changes can also be found on the George Washington and Jefferson National Forests website: https://www.fs.usda.gov/gwj.

SUPPLEMENTARY INFORMATION: Correction: In the Federal Register of September 30, 2019, in FR Doc. 2019-21164, on page 51510, in the first column, correct the fifth paragraph to read:

Once public involvement is complete, these new fees will be reviewed by the Southern Region Recreation Resource Advisory Committee prior to a final decision and implementation. These sites have all the required features to allow a fee to be charged. Those features include designated parking area, permanent toilets, increased patrols, and picnic tables. These expanded amenity fee sites will honor all applicable Interagency Passes.

Dated: October 30, 2019.
Richard A. Cooksey,
Acting Associate Deputy Chief, National Forest System.

[FR Doc. 2019-25434 Filed 11-22-19; 8:45 am]

BILLING CODE 3411-15-P